OFFICE OF PERSONNEL MANAGEMENT

5 CFR Parts 534, 591, and 930

RIN 3206-AJ44

Pay for Administrative Appeals Judge Positions

AGENCY: Office of Personnel Management.

ACTION: Final rule.

SUMMARY: The Office of Personnel Management (OPM) is issuing final regulations to implement a new pay system for administrative appeals judge positions. The administrative appeals judge pay system covers positions which are not classifiable above GS-15 and for which the duties primarily involve reviewing decisions of administrative law judges. OPM is issuing rules to ensure that agencies administer the new administrative appeals judge pay system in a consistent and equitable manner. These final regulations also implement changes in law regarding the manner in which the administrative law judge basic pay schedule is adjusted.

EFFECTIVE DATE: The regulations are effective on July 8, 2002.

FOR FURTHER INFORMATION CONTACT: David Sweeney, (202) 606-2858, FAX: (202) 606-4264, or e-mail: payleave@opm.gov.

SUPPLEMENTARY INFORMATION: On December 11, 2001, the Office of Personnel Management (OPM) issued interim regulations to implement a new pay system for administrative appeals judges (AAJs) (66 FR 63907). Section 645 of the Treasury and General Government Appropriations Act, 2001, as incorporated in Public Law 106-544 by section 101(a)(3) of that Public Law, established the AAJ pay system effective on the first day of the first pay period beginning on or after April 20, 2001. The AAJ pay system is authorized under 5 U.S.C. 5372b. Section 5372b authorizes OPM to issue regulations under which the head of an Executive agency must fix the rate of basic pay for each AAJ position.

The 60-day comment period for the interim regulations ended on February 11, 2002. We received no formal comments from either agencies or individuals. In informal comments, agency representatives expressed their satisfaction with the regulations. As a result, we believe no changes are necessary. Therefore, we are adopting as final the rules for agencies to administer the new AAJ pay system under 5 CFR part 534, subpart F. We are also adopting as final the changes in the interim regulations to 5 CFR part 591, subpart B (regarding nonforeign area cost-of-living allowances and post differentials), and 5 CFR part 930, subpart B (regarding the pay of administrative law judges).

Executive Order 12866, Regulatory Review

The Office of Management and Budget has reviewed this rule in accordance with Executive Order 12866.

Regulatory Flexibility Act

I certify that these regulations will not have a significant economic impact on a substantial number of small entities because they will affect only Federal agencies and employees.

List of Subjects in 5 CFR Parts 534, 591, and 930

Administrative practice and procedure, Computer technology, Government employees, Hospitals, Motor vehicles, Students, Travel and transportation expenses, Wages.

Accordingly, the Office of Personnel Management adopts the interim regulations amending 5 CFR parts 534, 591, and 930, published at 66 FR 63907 on December 11, 2001, as final.

Kay Coles James,
Office of Personnel Management, Director.

[FR Doc. 02-14168 Filed 6-6-02; 8:45 am]

BILLING CODE 6325-39-P